DEPARTMENT OF COMMERCE

National Oceanic and Atmospheric Administration

RIN 0648-XD513

Draft 2014 Marine Mammal Stock Assessment Reports

AGENCY: National Marine Fisheries Service (NMFS), National Oceanic and Atmospheric Administration (NOAA), Commerce.

ACTION: Notice; request for comments.

SUMMARY: NMFS reviewed the Alaska, Atlantic, and Pacific regional marine mammal stock assessment reports (SARs) in accordance with the Marine Mammal Protection Act. SARs for marine mammals in the Alaska, Atlantic, and Pacific regions were revised according to new information. NMFS solicits public comments on the draft 2014 SARs.

DATES: Comments must be received by April 29, 2015.

ADDRESSES: The 2014 draft SARs are available in electronic form via the Internet at http://www.nmfs.noaa.gov/pr/sars/draft.htm.

Copies of the Alaska Regional SARs may be requested from Dee Allen, Alaska Fisheries Science Center, NMFS, 7600 Sand Point Way, NE BIN 15700, Seattle, WA 98115-0070.

Copies of the Atlantic, Gulf of Mexico, and Caribbean Regional SARs may be requested from Gordon Waring, Northeast Fisheries Science Center, 166 Water St., Woods Hole, MA 02543.

Copies of the Pacific Regional SARs may be requested from Jim Carretta, Southwest Fisheries Science Center, 8604 La Jolla Shores Drive, La Jolla, CA 92037-1508.

You may submit comments, identified by NOAA-NMFS-2014-0117, by any of the following methods:

Electronic Submissions: Submit all electronic public comments via the Federal eRulemaking Portal http://www.regulations.gov.

Mail: Send comments or requests for copies of reports to: Chief, Marine Mammal and Sea Turtle Conservation Division, Office of Protected Resources, National Marine Fisheries Service, 1315 East-West Highway, Silver Spring, MD 20910-3226, Attn: Stock Assessments.

Instructions: All comments received are a part of the public record and will generally be posted to http://www.regulations.gov without change. All Personal Identifying Information (for example, name, address, etc.) voluntarily submitted by the commenter may be publicly accessible. Do not submit Confidential Business Information or otherwise sensitive or protected information.

NMFS will accept anonymous comments (enter N/A in the required fields, if you wish to remain anonymous). You may submit attachments to electronic comments in Microsoft Word, Excel, WordPerfect, or Adobe PDF file formats only.

FOR FURTHER INFORMATION CONTACT: Shannon Bettridge, Office of Protected Resources, 301-427-8402, Shannon.Bettridge@noaa.gov; Dee Allen 206-526-4048, Dee.Allen@noaa.gov, regarding Alaska regional stock assessments; Gordon Waring, 508-495-2311, Gordon.Waring@noaa.gov, regarding Atlantic, Gulf of Mexico, and Caribbean regional stock assessments; or Jim Carretta, 858-546-7171, Jim.Carretta@noaa.gov, regarding Pacific regional stock assessments.

SUPPLEMENTARY INFORMATION:

Background

Section 117 of the Marine Mammal Protection Act (MMPA) (16 U.S.C. 1361 et seq.) requires NMFS and the U.S. Fish and Wildlife Service (FWS) to prepare stock assessments for each stock of marine mammals occurring in waters under the jurisdiction of the United States, including the Exclusive Economic Zone. These reports must contain information regarding the distribution and abundance of the stock, population growth rates and trends, estimates of annual human-caused mortality and serious injury from all sources, descriptions of the fisheries with which the stock interacts, and the status of the stock. Initial reports were completed in 1995.

The MMPA requires NMFS and FWS to review the SARs at least annually for strategic stocks and stocks for which significant new information is available, and at least once every three years for non-strategic stocks. The term “strategic stock” means a marine mammal stock: (A) For which the level of direct human-caused mortality exceeds the potential biological removal level; (B) which, based on the best available scientific information, is declining and is likely to be listed as a threatened species under the Endangered Species Act (ESA) within the foreseeable future; or (C) which is listed as a threatened species or endangered species under the ESA. NMFS and the FWS are required to revise a SAR if the status of the stock has changed or can be more accurately determined. NMFS, in conjunction with the Alaska, Atlantic, and Pacific independent Scientific Review Groups (SRGs), reviewed the status of marine mammal stocks as required and revised reports in the Alaska, Atlantic, and Pacific regions to incorporate new information.

NMFS updated its serious injury designation and reporting process, which uses guidance from previous serious injury workshops, expert opinion, and analysis of historic injury cases to develop new criteria for distinguishing serious from non-serious injury. The NMFS Serious Injury Determination Policy was finalized in January 2012 and was first applied to the draft 2013 marine mammal SARs. The SARs report five-year averages for serious injury; thus, application of the new procedure involved retroactively reviewing the past five years of injury determinations for 2008-2012. NMFS defines serious injury as an “injury that is more likely than not to result in mortality” (50 CFR 229.2). Injury determinations for stock assessments revised in 2013 or later incorporate the new serious injury guidelines, based on the most recent five-year period for which data are available. NMFS solicits public comments on the draft 2013 SARs.

On April 16, 2013, NMFS received a petition from the Hawaii Fishermen's Alliance for Conservation and Tradition, Inc., to classify the North Pacific humpback whale population as a distinct population segment (DPS) and delist the DPS under the Endangered Species Act (ESA). On February 26, 2014, the State of Alaska submitted a petition to delineate the Central North Pacific stock of the humpback whale as a DPS and remove the DPS from the List of Endangered and Threatened Species under the ESA. After reviewing the petitions, the literature cited in the petitions, and other literature and information available in our files, NMFS found that both petitioned actions may be warranted and issued positive 90-day findings (78 FR 53391, August 29, 2013; 79 FR 36281, June 26, 2014). Currently, the four humpback whale stocks have depleted status under the MMPA due to their listing as endangered under the ESA. Consideration of both petitioned actions may affect their depleted status.

Alaska Reports

In the Alaska region, SARs for 21 Alaska stocks (19 “strategic”, 2 “non-strategic”) were updated. All stocks were reviewed and the following stocks were revised for 2014: Steller sea lion (western U.S. and eastern U.S. stocks), northern fur seal (eastern Pacific stock), spotted seal (Alaska stock), bearded seal (Alaska stock), ringed seal (Alaska stock), beluga whale (Beaufort Sea, eastern Chukchi Sea, eastern Bering Sea, Bristol Bay, and Cook Inlet stocks), killer whale (AT1 transient stock), harbor porpoise (Southeast Alaska, Gulf of Alaska, and Bering Sea stocks), sperm whale (North Pacific stock), humpback whale (Western North Pacific and central North Pacific stocks), fin whale (northeast Pacific stock), North Pacific right whale (eastern North Pacific stock), bowhead whale (western Arctic stock). Most revisions to the Alaska SARs included updates of abundance and/or mortality and serious injury estimates. Information on the remaining Alaska region stocks can be found in the final 2013 reports (Allen and Angliss, 2014).

The Eastern stock of Steller sea lions was depleted under the MMPA due to its ESA listing as endangered. NMFS is currently evaluating the depleted status of the eastern Steller sea lion following delisting from the ESA. If not depleted, the recovery factor used to calculate potential biological removal level (PBR) would be adjusted from 0.75 to 1.0 per the Guidelines for Assessing Marine Mammal Stocks, and PBR would be 2,193. If the stock continues to be classified as depleted, the recovery factor would remain at 0.75, and PBR would be 1,645.

New survey data provided calculated values of abundance, minimum abundance (Nmin), and PBR for the spotted seal stock. Nmin is now reported as “unknown” and PBR as “undetermined” rather than a calculated estimate based on age of population estimate (>8 years old) for two stocks of beluga whales: Eastern Chukchi Sea and eastern Bering Sea.

Atlantic Reports

In the Atlantic region (including the Atlantic coast, Gulf Coast, and U.S. territories in the Caribbean), reports for 53 stocks were updated and three added. Of the updated stocks, 9 stocks are “strategic,” and 44 are “non-strategic.” Three new Atlantic region reports for strategic stocks were added this year, false killer whales (Western North Atlantic stock), common bottlenose dolphin (Central Georgia estuarine stock), and common bottlenose dolphin (Mississippi Sound, Lake Borgne, Bay Boudreau stock, previously contained in the common bottlenose dolphin, northern Gulf of Mexico bay, sound and estuary SAR). The Lemon Bay stock of common bottlenose dolphin was combined with the Gasparilla Sound, Charlotte Harbor, Pine Island Sound stock of common bottlenose dolphin, based on recent photo-ID data.

All stocks were reviewed and the following stocks were revised for 2014: North Atlantic right whale; humpback whale, Gulf of Maine; fin whale, Western North Atlantic (WNA); sei whale; sperm whale, WNA; North Atlantic killer whale, WNA; common bottlenose dolphin, Gulf of Mexico northern coastal; common bottlenose dolphin, Gulf of Mexico western coastal; common bottlenose dolphin, Barataria Bay; minke whale, Canadian east coast; Northern bottlenose whale; Sowerby's beaked whale; Risso's dolphin, WNA; long-finned pilot whale; short-finned pilot whale, WNA; Atlantic white-sided dolphin; short-beaked common dolphin; common bottlenose dolphin, Western North Atlantic/offshore ; harbor porpoise, Gulf of Maine/Bay of Fundy; harbor seal, WNA; gray seal, WNA; common bottlenose dolphin, Gulf of Mexico continental shelf; common bottlenose dolphin, Gulf of Mexico eastern coastal; common bottlenose dolphin, Gulf of Mexico Oceanic; common bottlenose dolphin, northern Gulf of Mexico bay, sound and estuary (27 stocks); pantropical spotted dolphin, Gulf of Mexico; and Risso's dolphin Gulf of Mexico. Information on the remaining Atlantic region stocks can be found in the final 2013 reports (Waring et al., 2014).

Most revisions included updates of abundance and/or mortality and serious injury estimates. The status of one stock, Gulf of Maine/Bay of Fundy harbor porpoise, changed from strategic to non-strategic. New survey data provided calculated values of abundance, Nmin, and PBR for the following stocks of common bottlenose dolphin: Gulf of Mexico continental shelf, Gulf of Mexico eastern coastal stock, Gulf of Mexico northern coastal stock, Gulf of Mexico western coastal, Mississippi River Delta, and Mississippi Sound, Lake Borgne, Bay Boudreau.

Pacific Reports

In the Pacific region (waters along the west coast of the United States, within waters surrounding the main and Northwest Hawaiian Islands, and within waters surrounding U.S. territories in the Western Pacific), SARs were revised for 10 stocks under NMFS jurisdiction (5 “strategic” and 5 “non-strategic” stocks) and one was added for the Western North Pacific gray whale (a “strategic” stock). All stocks were reviewed and the following stocks were revised for 2014: Hawaiian monk seal; southern Resident killer whale; false killer whale, Main Hawaiian Islands Insular; false killer whale, Hawaii Pelagic; sperm whale, California/Oregon/Washington; Western North Pacific gray whale; California sea lion; Harbor seal, California; Northern elephant seal, California; Eastern North Pacific gray whale; and false killer whale, Northwestern Hawaiian Islands. Information on the remaining Pacific region stocks can be found in the final 2013 reports (Carretta et al., 2014).

New estimates of abundance for the California/Oregon/Washington stock of sperm whales are based on a Bayesian trend analysis that utilizes previously collected line-transect data (Moore and Barlow, 2014), resulting in a more stable time series of abundance estimates. Mortality and serious injury estimates of California/Oregon/Washington sperm whales in California drift gillnets are updated, based on pooling additional years of data (>5 years) to reduce bias and improve precision in mean annual bycatch estimates (Carretta and Moore, 2014). The combination of new abundance estimates and pooling of bycatch estimates over a longer time period for this stock of sperm whales results in mean annual bycatch estimates that no longer exceed PBR.

Dated: January 23, 2015.
Wanda Cain,
Acting Director, Office of Protected Resources, National Marine Fisheries Service.

[FR Doc. 2015-01751 Filed 1-28-15; 8:45 am]

BILLING CODE 3510-22-P